DEPARTMENT OF COMMERCE

International Trade Administration

U.S. Safety and Security Trade Mission to the Northern Triangle (Honduras, Guatemala, and El Salvador)

May 16-20, 2016.

AGENCY: International Trade Administration, Department of Commerce.

ACTION: Notice.

SUMMARY: The United States Department of Commerce, International Trade Administration (ITA), is organizing a Trade Mission to Honduras, Guatemala, and El Salvador from May 16 to 20, 2016. The purpose of this mission is to assist U.S. companies in launching or increasing exports of U.S. safety and security goods or services to Guatemala, El Salvador, and Honduras. Participating firms will gain market insights, make industry contacts, solidify business strategies, and advance specific projects, with the goal of increasing U.S. exports of products and services to the Northern Triangle of Central America. The mission will include customized one-on-one business appointments with pre-screened potential buyers, agents, distributors, and joint venture partners; meetings with industry leaders, market briefings, and networking events.

Target Sub-Sectors for U.S. Exporters Include

Burglar and motion alarms, sensors, intrusion detection systems, CCTV cameras, metal detectors, access control equipment, biometrics, electronic surveillance, remote monitoring, sensors, perimeter security, fire and smoke detection systems and alarms, body armor, uniforms and tactical gear, commercial personal defense products, security training services, retail security systems, sensor tags.

Schedule
Sunday, May 15, 2016, San Pedro Sula, Honduras | Travel Day/Arrival in San Pedro Sula, Honduras Welcome Reception.
Monday, May 16, 2016, San Pedro Sula, Honduras | Market Briefing. Business-to-Business (B2B) Matchmaking Appointments.
Tuesday, May 17, 2016, Guatemala City, Guatemala | Site Visit in San Pedro Sula (TBD). Travel to Guatemala City. Market Briefing and Networking Reception.
Wednesday, May 18, 2016, Guatemala City, Guatemala | Business-to-Business (B2B) Matchmaking Appointments.
Thursday, May 19, 2016, San Salvador, El Salvador | Travel to San Salvador, El Salvador. Market Briefing and Networking Reception.
Friday, May 20, 2016, San Salvador, El Salvador | Business-to-Business (B2B) Matchmaking Appointments.
Saturday, May 21, 2016 | Depart for the United States/Travel Day.

Web site: Please visit our official mission Web site for more information: http://export.gov/eac/show_detail_trade_events.asp?EventID+36399&InputType=EVENT.

Participation Requirements

All parties interested in participating in the Safety and Security Trade Mission to Guatemala, El Salvador, and Honduras must complete and submit an application for consideration by the U.S. Department of Commerce. All applicants will be evaluated on their ability to meet certain conditions and best satisfy the selection criteria as outlined below. A minimum of 10 U.S. companies and/or trade associations and a maximum of 12 companies and/or trade associations will be selected to participate in the mission from the applicant pool. U.S. companies or trade associations already doing business with Guatemala, El Salvador, and Honduras, as well as U.S. companies or trade associations seeking to enter these countries for the first time may apply.

Fees and Expenses

After a company and/or trade association has been selected to participate on the mission, a payment to the U.S. Department of Commerce in the form of a participation fee is required. The participation fee will be US$3,800 for a small or medium-sized enterprise (SME) and US$4,800 for a large firm.

The fee for each additional representative is US$450.

Expenses for travel to and from the mission, lodging, most meals, and incidentals will be the responsibility of each mission participant.

Application

All interested firms and associations may register via the following link: http://emenuapps.ita.doc.gov/ePublic/TM/6R0R.

Exclusions

The mission fee does not include any personal travel expenses such as lodging, most meals, local ground transportation, except as stated in the proposed agenda, and air transportation from the United States to the mission site and return to the United States.

Timeline for Recruitment and Applications

Mission recruitment will be conducted in an open and public manner, including publication in the Federal Register, posting on the U.S. Department of Commerce trade mission calendar (www.export.gov/trademissions) and other Internet Web sites, press releases to general and trade media, notices by industry trade associations and other multiplier groups, and publicity at industry meetings, symposia, conferences, and trade shows.

Recruitment will begin immediately and conclude no later than Friday, March 4, 2016. The U.S. Department of Commerce will review applications and make selection decisions on a rolling basis until the maximum of participants is reached. We will inform all applicants of selection decisions as soon as possible after applications are reviewed. Applications received after the deadline will be considered only if space and scheduling constraints permit.

Conditions for Participation

An applicant must submit a completed and signed mission application and supplemental application materials, including adequate information on the company's products and/or services primary market objectives, and goals for participation. If the Department of Commerce receives an incomplete application, the Department may reject the application, request additional information, or take the lack of information into account when evaluating the applications.

Each applicant must also certify that the products and services it seeks to export through the mission are either produced in the United States, or, if not, marketed under the name of a U.S. firm and have at least fifty-one percent U.S. content. In the case of a trade association or trade organization, the applicant must certify that, for each company to be represented by the trade association or trade organization, the products and services the represented company seeks to export are either produced in the United States or, if not, marketed under the name of a U.S. firm and have at least fifty-one percent U.S. content.

FOR FURTHER INFORMATION CONTACT: Ms. April Redmon, Industry & Analysis, Safety and Security Team, Arlington, VA, Tel: (703) 235-0103, Email: april.redmon@trade.gov.

Ms. Jessica Dulkadir, International Trade Specialist, Trade Missions, U.S. Department of Commerce, Washington, DC 20230, Tel: 202 482 2026, Fax: 202-482-9000, Jessica.Dulkadir@trade.gov.

Frank Spector,
Acting Director, Trade Missions Program.

[FR Doc. 2015-31139 Filed 12-9-15; 8:45 am]

BILLING CODE 3510-DR-P